MILLENNIUM CHALLENGE CORPORATION

[MCC FR 05-11]

Notice of Quarterly Report (April 1 Through June 30, 2005)

AGENCY: Millennium Challenge Corporation.

SUMMARY: The Millennium Challenge Corporation (MCC) has no reporting items for the quarter of April 1, 2005, through June 30, 2005, with respect to either assistance provided under Section 605 of the Millennium Challenge Act of 2003 (Pub. L. 108-199, Division D (the Act)), or transfers of funds to other federal agencies pursuant to Section 619 of that Act.

The sum of $12,711,868 has been approved for assistance for development and/or implementation of a Compact under Section 609(g) to Nicaragua, Georgia, Lesotho, Ghana, Cape Verde and Senegal. Moreover, during this stated quarter, MCC's Board of Directors has approved four compacts totaling $609,851,488 for development assistance to Madagascar, Honduras, Nicaragua and Cape Verde.

The following report shall be made available to the public by means of publication in the Federal Register and on the Internet Web site of the MCC (http://www.mcc.gov) in accordance with Section 612(b) of the Act.

Millennium Challenge Corporation ¹
[Quarterly report for the period April 1, 2005, through June 30, 2005]
| Obligations
Assistance under Section 605 | $0
Funds allocated or transferred under Section 619(b) | 0
Total |
¹ The Millennium Challenge Corporation has no activity to report for the referenced quarter with respect to either assistance provided under Section 605 of the Millennium Challenge Act of 2003 (Pub. L. 108-199, Division D), or transfers of funds to other federal agencies pursuant to Section 619 of that Act.

Dated: July 11, 2005.
Frances C. McNaught,
Vice President, Domestic Relations, Millennium Challenge Corporation.

[FR Doc. 05-13897 Filed 7-14-05; 8:45 am]

BILLING CODE 9210-01-P